DEPARTMENT OF HEALTH AND HUMAN SERVICES

Notice of Meeting of the Advisory Committee on Blood Safety and Availability

AGENCY: Office of the Secretary, HHS.

ACTION: Notice of meeting.

The Advisory Committee on Blood Safety and Availability will meet on Thursday, January 31, 2002 and Friday, February 1, 2002 from 8 a.m. to 5 p.m. The meeting will take place at the Hyatt Regency Hotel on Capitol Hill, 400 New Jersey Ave., NW., Washington, DC 20001. The meeting will be entirely open to the public.

The purpose of this meeting will be to discuss what lessons can be learned from the events surrounding September 11, 2001 regarding the safety and the availability of the nation's blood supply.

Public comment will be limited to five minutes per speaker. Those who wish to have printed material distributed to Advisory Committee members should submit thirty (30) copies to the Executive Secretary prior to close of business January 17, 2002. In addition, anyone planning to comment on either item is encouraged to contact the Executive Secretary at her/his earliest convenience.

FOR FURTHER INFORMATION CONTACT: Stephen D. Nightingale, MD, Executive Secretary, Advisory Committee on Blood Safety and Availability, Department of Health and Human Services, Office of Public Health and Science, 200 Independence Ave., SW., Room 736-E, Washington, DC 20201. Phone (202) 690-5558, FAX (202) 260-9372, e-mail StephenDNightingale@osophs.dhhs.gov.

Dated: November 21, 2001.
Stephen D. Nightingale,
Executive Secretary, Advisory Committee on Blood Safety and Availability.

[FR Doc. 01-29604 Filed 11-27-01; 8:45 am]

BILLING CODE 4150-28-M